DEPARTMENT OF COMMERCE

International Trade Administration

Notice of Vacancies on the U.S. Section of the U.S.-Iraq Business Dialogue

AGENCY: International Trade Administration, U.S. Department of Commerce.

ACTION: Notice.

SUMMARY: The U.S. Secretary of Commerce and the Iraq Minister of Trade in July 2006 established the U.S.-Iraq Business Dialogue (Business Dialogue or Dialogue) as a bilateral forum to facilitate private sector business growth in Iraq and to strengthen trade and investment ties between the United States and Iraq. This notice announces four open membership opportunities for representatives of American industry to join the U.S. section of the Dialogue following the end of term for existing members.

DATES: Applications must be received no later than November 15, 2012; 5:00 p.m. EST.

ADDRESSES: Please send requests for consideration to Ms. Susan Hamrock Mann, Director, Iraq Investment and Reconstruction Task Force, U.S. Department of Commerce, either by fax on 202-482-0980 or by mail to U.S. Department of Commerce, 14th and Constitution Avenue NW., Mail Stop 3421, Washington, DC 20230.

FOR FURTHER INFORMATION CONTACT: Kevin M. Reichelt, Office of the Middle East, U.S. Department of Commerce, Room 2029-B, Washington, DC 20230. Phone: 202-482-2896.

SUPPLEMENTARY INFORMATION: The U.S. Secretary of Commerce and the Iraqi Minister of Trade co-chair the Dialogue. The Dialogue consists of a U.S. Section and an Iraqi Section. Each Section consists of members from the private sector, representing the views and interests of the private sector business community. Each Party appoints the members to its respective Section. The Sections provide policy advice and counsel to the U.S. Secretary of Commerce and to Iraq's Minister of Trade that reflect private sector views, needs, and concerns regarding private sector business development in Iraq and enhanced bilateral commercial ties that would form the basis for expanded trade between the United States and Iraq. The Dialogue will exchange information and encourage bilateral discussions that address the following areas:

—Factors that affect the growth of private sector business in Iraq, including disincentives to trade and investment and regulatory obstacles to job creation and investment growth;

—Initiatives that the Government of Iraq might take, such as enacting, amending, enforcing, or repealing laws and regulations, to promote private sector business growth in Iraq;

—Promotion of business opportunities in both Iraq and the United States, and identification of opportunities for U.S. and Iraqi firms to work together; and

—Attracting U.S. businesses to opportunities in Iraq and serving as a catalyst for Iraqi private sector growth.

Applications to represent any sector will be considered. The U.S. section will represent a cross-section of American businesses.

Members serve in a representative capacity representing the views and interests of their particular industries. Members are not special government employees, and receive no compensation for their participation in Dialogue activities. Only appointed members may participate in Dialogue meetings; substitutes and alternates will not be permitted. Section members serve for three-year terms, but may be reappointed. U.S. Section members serve at the discretion of the Secretary of Commerce.

Candidates will be evaluated based on: Their interest in the Iraqi market; export/investment experience; contribution to diversity based on size of company, geographic location, and sector; and ability to initiate and be responsible for activities in which the Business Dialogue will be active.

In order to be eligible for membership in the U.S. section, potential candidates shall be:

—A U.S. citizen residing in the United States or able to travel to the United States or other location to attend official Business Dialogue meetings;

—The President or CEO (or comparable level of responsibility) of a private sector company, or, in the case of large companies, a person having substantial responsibility for the company's commercial activities in Iraq, either of which shall possess unique experience with or specialized knowledge about the commercial environment in Iraq; or the head of a non-profit entity, such as a trade or industry association, who possesses unique technical expertise, and the ability to provide counsel with respect to private sector business development in Iraq; and

—Not a registered foreign agent under the Foreign Agents Registration Act of 1938, as amended.

Members will be selected on the basis of who best will carry out the objectives of the Business Dialogue as described above and as stated in the Terms of Reference for the Dialogue. (The Terms of Reference are available from the point of contact listed above.) Recommendations for appointment will be made to the Secretary of Commerce. All candidates will be notified of whether they have been selected.

To be considered for membership, please submit the following information as instructed in the addresses and dates captions above: Name(s) and title(s) of the individual(s) requesting consideration; name and address of company or non-profit entity to be represented; size of the company or non-profit entity; description of relevant product, service, or technical expertise; size of company's export trade, investment, and/or international program experience; nature of operations or interest in Iraq; responsibilities of the candidate within the company or non-profit entity; and a brief statement of why the candidate should be appointed, including information about the candidate's ability to initiate and be responsible for activities in which the Business Dialogue will be active.

Susan Hamrock Mann,
Director, Iraq Investment and Reconstruction Task Force.

[FR Doc. 2012-26437 Filed 11-1-12; 8:45 am]

BILLING CODE P